FEDERAL COMMUNICATIONS COMMISSION

[FR ID 136314]

Privacy Act of 1974; System of Records; Correction

AGENCY: Federal Communications Commission.

ACTION: Notice of a new system of records; Correction.

SUMMARY: The Federal Communications Commission (FCC) published a System of Records Notice in the Federal Register of March 30, 2023 concerning the Universal Service Administrative Company (USAC) Customer Relationship Management system of records. The document was improperly numbered under two separate headings.

FOR FURTHER INFORMATION CONTACT: Brendan McTaggart, (202) 418-1738, or privacy@fcc.gov.

SUPPLEMENTARY INFORMATION:

Correction

In the Federal Register of March 30, 2023 in FR Doc. 88-19138, on page 19138 in the second column, correct the Summary caption to read:

The Federal Communications Commission (FCC or Commission or Agency) proposes to add a new system of records, FCC/WCB-6, USAC Customer Relationship Management (CRM), subject to the Privacy Act of 1974, as amended.

Correction

In the Federal Register of March 30, 2023 in FR Doc. 88-19138, on page 19138 in the third column, correct the “System Name and Number” caption to read:

SYSTEM NAME AND NUMBER:

FCC/WCB-6, USAC Customer Relationship Management.

Marlene Dortch,
Secretary.

[FR Doc. 2023-08121 Filed 4-17-23; 8:45 am]

BILLING CODE 6712-01-P